DEPARTMENT OF JUSTICE

Notice of Lodging of Proposed Consent Decree Under the Clean Water Act

On October 29, 2020, the Department of Justice lodged a proposed Consent Decree with the United States District Court for the District of Colorado in the lawsuit entitled United States of America, the State of Colorado, the Lower Arkansas Valley Water Conservancy District, and the Board of County Commissioners in the County of Pueblo v. the City of Colorado Springs, Colorado, Civil Action No. 1:16-cv-02745-JLK.

The lawsuit seeks injunctive relief and civil penalties for violations of the Clean Water Act, 33 U.S.C. 1319(b) and (d), based on the City's violations of the terms and conditions of its National Pollutant Discharge Elimination System (“NPDES”) permit issued by the State of Colorado under Section 402(b) of the Clean Water Act, 33 U.S.C. 1342(b), for discharges of stormwater from the City's municipal separate storm sewer system, as well as for violations of the Colorado Water Quality Control Act, §§ 25-8-101 et seq. C.R.S.

The proposed Consent Decree resolves all litigation in this action. The proposed Consent Decree requires the City of Colorado Springs to implement city-wide injunctive relief to comply with its NPDES permit, perform $11 million of mitigation to offset the environmental harm caused by its alleged violations, and pay the United States a $1 million civil penalty. In addition, in lieu of receiving a civil penalty payment, the State of Colorado agrees that the City shall satisfy the State civil penalty through performance of a State approved supplemental environmental project valued at $1 million, to be performed by Intervenor Plaintiff the Lower Arkansas Valley Water Conservancy District.

The publication of this notice opens a period for public comment on the Consent Decree. Comments should be addressed to the Assistant Attorney General, Environment and Natural Resources Division, and should refer to United States, et al. v. the City of Colorado Springs, Colorado, Civil Action No. 1:16-cv-02745-JLK, DOJ number 90-5-1-1-11293. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $42.25 (25 cents per page reproduction cost) payable to the United States Treasury.

Jeffrey Sands,
Assistant Section Chief, Environmental Enforcement Section, Environment and Natural Resources Division.

[FR Doc. 2020-24430 Filed 11-3-20; 8:45 am]

BILLING CODE 4410-15-P